DEPARTMENT OF AGRICULTURE

Forest Service

San Juan National Forest; Columbine Ranger District; Colorado; Hermosa Landscape Grazing Analysis

AGENCY: Forest Service, USDA.

ACTION: Notice of intent to prepare an environmental impact statement.

SUMMARY: The San Juan National Forest proposes to continue to authorize livestock grazing on all or portions of the Missionary Ridge-Lakes Landscape in a manner that moves resource conditions toward desired on-the-ground conditions and is consistent with Forest Plan standards and guidelines. The analysis area encompasses approximately 119,000 acres on 12 active cattle allotments: Bear Creek, Coon Creek, Elkhorn, Graham Creek, Haflin Creek, Jack Creek, Lemon, Lion Creek, Red Creek, Stevens/Shearer, Vallecito, and Waldner Allotments. The area is located north of Durango and Bayfield, Colorado; from the Animas Valley on the west to just past the La Plata County line on the east; in T35N and T36N, R5-9W, N.M.P.M. and is within the Columbine Ranger District, San Juan National Forest, Colorado.

The proposed action is designed to increase the flexibility of livestock grazing systems through adaptive management, which will allow quicker and more effective response to problems areas when they are revealed. Problems will be revealed through the use of short and long term monitoring. Application of adaptive management practices should result in healthier soil, watershed, and vegetative conditions.

DATES: Comments concerning the scope of the analysis should be received on or before February 19, 2008. The draft environmental impact statement is expected in June 2008 and the final environmental impact statement is expected in September 2008.

ADDRESSES: Send written comments to Cam Hooley, Environmental Coordinator, Columbine Public Lands, POB 439, 367 South Pearl Street, Bayfield, CO 81122; e-mail chooley@fs.fed.us.

For further information, mail correspondence to Rowdy Wood, Rangeland Management Specialist, Columbine Public Lands, POB 439, 367 South Pearl Street, Bayfield, CO 81122; e-mail rwood03@fs.fed.us.

FOR FURTHER INFORMATION CONTACT: Rowdy Wood, Rangeland Management Specialist, Columbine Public Lands, 970-884-1416.

SUPPLEMENTARY INFORMATION:

Purpose and Need for Action

The purpose of this project is to reauthorize grazing on all or portions of the Hermosa Landscape in such a manner that will move resource conditions toward desired conditions and be consistent with Forest Plan standards and guidelines. There is a need to move some existing conditions towards desired conditions. Livestock grazing has been identified in the Forest Plan as an appropriate use of the Forest and falls under the multiple-use mandate of the Forest Service. This action is needed at this time because in the early 1990's, the courts determined that livestock grazing permits should not be re-issued without a NEPA analysis. This put many livestock operations at risk until such time as these analyses could be completed. In response, Congress passed the Rescissions Act of 1995, which provided for continuation of permit issuance if the only reason they could not be issued was lack of a NEPA analysis. The Act directed the Forest Service to develop and adhere to a schedule for completion of the analyses. This project analysis is being undertaken as part of the schedule that was developed for the San Juan National Forest.

Proposed Action

The proposed action is to continue to permit livestock grazing by incorporating adaptive management strategies across the Hermosa Landscape. Adaptive Management is defined as the process of making use of monitoring information to determine if management changes are needed, and if so, what changes, and to what degree. An adaptive management strategy would define the desired resource conditions, monitoring requirements, resource triggers or thresholds, and actions to be taken if triggers are reached. Site-specific actions to move the existing ground conditions toward desired conditions could also be identified.

Possible Alternatives

The following alternatives have been preliminarily identified: No Action Alternative. The proposed project as described above would not occur. Grazing would not be reauthorized on these allotments. Traditional Management Alternative (No change from current). This alternative is based on analyzing a specific number of livestock and specific grazing dates in specific pastures. This has been the conventional approach to grazing analysis. Adaptive Management Alternative (Proposed Action). Described above. This alternative is based on meeting certain resource conditions using a variety of “tools”, or actions, to reach or maintain those conditions.

Responsible Official

Pauline E. Ellis, Columbine District Ranger/Field Office Manager, POB 439, 367 South Pearl Street, Bayfield, CO, 81122.

Nature of Decision To Be Made

Given the purpose and need, the deciding official reviews the proposed action and the other alternatives in order to make the following decisions: Will livestock grazing will proceed as proposed, as modified, or not at all, on all or part of the Missionary Ridge-Lakes landscape? If livestock grazing proceeds: Where will on-the-ground activities occur, and what types of associated activities will occur? What mitigation measures and monitoring requirements will the Forest Service apply to the project? If Adaptive Management is chosen, how will monitoring be used to guide when adaptive options will be activated?

Scoping Process

Scoping is initiated with the publication of this notice in the Federal Register. A news release will be issued and scoping letters will be mailed to affected individuals during January 2008, and the project has been posted in the San Juan National Forest Quarterly Schedule of Proposed Actions since January 2008. A meeting with the current term grazing permit holders in the project landscape was held on March 15, 2007, and another will be held on January 25, 2008 at 2:30 p.m. the Lavena McCoy Public Library in Bayfield, Colorado.

Preliminary Issues

During internal review and analysis of monitoring data, the Columbine District/Field Office has already identified the following concerns or issues with the proposal: Livestock can affect plant community species composition and vigor; Livestock can impact riparian areas and watershed conditions; Livestock can impact wildlife habitat, including habitat for special status species such as Canada lynx and Colorado River cutthroat trout; Livestock can conflict with recreation in developed campgrounds and trailheads.

Comment Requested

This notice of intent initiates the scoping process which guides the development of the environmental impact statement. Comments regarding the scope of issues to be analyzed in the Environmental Impact Statement are requested, and should be relevant to the nature of the decision to be made.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 9, 2008.
Pauline E. Ellis,
District Ranger/Field Office Manager.

[FR Doc. E8-749 Filed 1-16-08; 8:45 am]

BILLING CODE 3410-11-P